DEPARTMENT OF TRANSPORTATION

Federal Highway Administration

Notice of Statute of Limitations on Claims, Final Federal Agency Actions on Proposed Highway in California

AGENCY: Federal Highway Administration (FHWA), DOT.

ACTION: Notice of Limitation on Claims for Judicial Review of Actions by the California Department of Transportation (Caltrans), pursuant to 23 U.S.C. 326.

SUMMARY: The FHWA, on behalf of Caltrans, is issuing this notice to announce actions taken by Caltrans that are final within the meaning of 23 U.S.C. 139(l)(1). The actions relate to a proposed highway project, New River Bike Path [Federal Aid Number HPLUL-5168(015)] in the City of Calexico, in the County of Imperial, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 19, 2016. If the Federal law that authorizes judicial review of a claim provides a time period of less than 150 days for filing such claim, then that shorter time period still applies.

FOR FURTHER INFORMATION CONTACT: For Caltrans: Kevin Hovey, Chief, Environmental Branch D, California Department of Transportation—District 11, 4050 Taylor Street, San Diego, CA 92110, 8 a.m. to 5 p.m., 619-688-0240, kevin.hovey@dot.ca.gov.

SUPPLEMENTARY INFORMATION: Effective May 21, 2007 and renewed May 31, 2016, FHWA assigned, and Caltrans assumed, all environmental responsibilities for this project pursuant to 23 U.S.C. 326 CE Assignment Memorandum of Understanding. Notice is hereby given that Caltrans has taken final agency actions subject to 23 U.S.C. 139(l)(1) by issuing licenses, permits, and approvals for the following highway project in the State of California. The City of Calexico proposes to construct a 2.4-mile bike trail along New River, between West 2nd Avenue/Animal Shelter Drive to A.M. Thielemann Avenue, HPLU-5168(015). The proposed project would also include the creation of landscaped overlooks at various locations and construction of a bicycle/pedestrian bridge over New River near the trail's proposed West 2nd Avenue/Animal Shelter Drive eastern entrance. The actions by the Federal agencies, and the laws under which such actions were taken, are described in the Categorical Exclusion (CE) for the project, approved on June 27, 2016 and in other documents in the FHWA project records. The CE and other project records are available by contacting Caltrans at the addresses provided above. This notice applies to all Federal agency decisions as of the issuance date of this notice and all laws under which such actions were taken, including but not limited to:

1. Council on Environmental Quality regulations;

2. National Environmental Policy Act (NEPA);

3. Moving Ahead for Progress in the 21st Century Act (MAP-21);

4. Department of Transportation Act of 1966;

5. Federal Aid Highway Act of 1970;

6. Clean Air Act Amendments of 1990;

7. Department of Transportation Act of 1966, Section 4(f);

8. Clean Water Act of 1977 and 1987;

9. Endangered Species Act of 1973;

10. Migratory Bird Treaty Act;

11. National Historic Preservation Act of 1966, as amended;

12. Historic Sites Act of 1935;

13. Executive Order 11990, Protection of Wetlands

14. Executive Order 13112, Invasive Species; and,

15. Executive Order 11988, Floodplain Management.

(Catalog of Federal Domestic Assistance Program Number 20.205, Highway Planning and Construction. The regulations implementing Executive Order 12372 regarding intergovernmental consultation on Federal programs and activities apply to this program.)

Authority: 23 U.S.C. § 139(l)(1)

Dated: July 6, 2016.
Lismary Gavillán,
Transportation Engineer, Federal Highway Administration, Los Angeles, California.

[FR Doc. 2016-17116 Filed 7-19-16; 8:45 am]

BILLING CODE 4910-RY-P